DEPARTMENT OF AGRICULTURE

Submission for OMB Review; Comment Request

December 10, 2020.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by January 14, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Bid for Advertised Timber.

OMB Control Number: 0596-0066.

Summary of Collection: This information collection is necessary to implement the various statutes, regulations, and policies designed to ensure that: (1) National Forest System timber is sold at not less than appraised value; (2) bidders meet specific criteria when submitting a bid; and (3) anti-trust violations do not occur during the bidding process.

Individuals, large and small businesses, and corporations wishing to purchase timber or forest products from national forests must enter into a timber sale or forest product contract with the Forest Service. Several statutes, regulations, and policies impose requirements on the Government and purchasers involved in the bidding process. The Uniform Commercial Code (UCC), although not binding upon the Federal Government, is a useful tool in determining the rights and liabilities of the contacting parties in the contract formation process.

Need and Use of the Information: Pursuant to the Forest Service Small Business Timber Sale Set-Aside Program, developed in cooperation with the Small Business Administration, Forest Service regulations at Title 36 of the Code of Federal Regulations, § 223.84 require that the Forest Service bid form used by potential timber sale bidders include provisions for small business concerns. The data collected will be used by the agency to ensure that National Forest System timber will be sold at not less than appraised value, that bidders will meet specific criteria when submitting a bid, and that anti-trust violations will not occur during the bidding process.

The tax identification number of each bidder is entered into an automated bid monitoring system, which is used to determine if speculative bidding or unlawful bidding practices are occurring and is required to process electronic payments to the purchaser.

Respondents will be bidders on National Forest System timber sales. Forest Service sale officers will mail bid forms to potential bidders, and bidders will return the completed forms, dated and signed, to the Forest Service sale officer.

Description of Respondents: Business or other for-profit; Individuals or households.

Number of Respondents: 1,089.

Frequency of Responses: Reporting: On occasion.

Total Burden Hours: 68,258.

Title: Disposal of Mineral Materials.

OMB Control Number: 0596-0081.

Summary of Collection: The Forest Service (FS) is responsible for overseeing the management of National Forest System land. The Multiple-Use Mining Act of 1955 (30 U.S.C. 601, 603, 611-615) gives the FS specific authority to manage the disposal of mineral materials mined from National Forest land. FS uses form FS-2800-9, “Contract for the Sale of Mineral Materials” to collect detailed information on the planned mining and disposal operations as well as a contract for the sale of mineral materials.

Need and Use of the Information: The collected information enables the Forest Service to document planned operations, to prescribe the terms and conditions the agency deems necessary to protect surface resources, and to affect a binding contract agreement. Forest Service employees will evaluate the collected information to ensure that entities applying to mine mineral materials are financially accountable and will conduct their activities in accordance with the mineral regulations of Title 36, Code of Federal Regulations, Part 228, Subpart C (36 CFR part 228).

If this information is not collected, the Forest Service would be unable to comply with Federal regulations to mine mineral materials, and operations could cause undue damage to surface resources.

Description of Respondents: Business or other for-profit.

Number of Respondents: 2,617.

Frequency of Responses: Reporting: On occasion.

Total Burden Hours: 6,543.

Title: National Visitor Use Monitoring, and Customer and Use Survey Techniques for Operations, Management, Evaluation, and Research.

OMB Control Number: 0596-0110.

Summary of Collection: The Government Performance and Results Act of 1993 requires that Federal agencies establish measurable goals and monitor their success at meeting those goals. Two of the items the Forest Service must measure are: (1) The number of visits that occur on the National Forest System lands for recreation and other purposes, and (2) the views and satisfaction levels of recreational visitors to National Forest System lands about the services, facilities, and settings. The Agency receives requests for this kind of information from a variety of organizations, including Congressional staffs, newspapers, magazines, and recreational trade organizations.

Need and Use of the Information: The Customer and Use Survey Techniques for Operations, Management, Evaluation and Research (CUSTOMER) study combines several different survey approaches to gather data describing visitors to and users of public recreation lands, including their trip activities, satisfaction levels, evaluations, demographic profiles, trip characteristics, spending, and annual visitation patterns. FS will use face-to-face interviewing for collecting information on-site as well as English and Spanish written survey instruments to be mailed back by respondents. The NVUM results and data are a source of data and information in addressing forest land management planning, national strategic planning, service to minorities, and identification of a forest's recreation niche. Conducting the collection less frequently puts information updates out of cycle with forest planning and other data preparations and reporting activities.

Description of Respondents: Individuals or households.

Number of Respondents: 45,000.

Frequency of Responses: Reporting; Quarterly; Annually.

Total Burden Hours: 6,386.

Levi S. Harrell,
Departmental Information Collection Clearance Officer.

[FR Doc. 2020-27574 Filed 12-14-20; 8:45 am]

BILLING CODE 3411-15-P